DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, February 7, 2005, 11 a.m. to February 7, 2005, 12:30 p.m., National Institutes of Health, Two Democracy Plaza, 6707 Democracy Boulevard, Bethesda, MD, 20892 which was published in the Federal Register on January 12, 2005, 70 FR 2179.

The meeting has been changed to April 25, 2005 from 4 p.m. to 4:30 p.m. The location remains the same. The meeting is closed to the public.

Dated: April 12, 2005.
LaVerne Y. Stringfield,
Director, Office of Federal Advisory Committee Policy.

[FR Doc. 05-7873 Filed 4-19-05; 8:45 am]

BILLING CODE 4140-01-M